DEPARTMENT OF HEALTH AND HUMAN SERVICES

Food and Drug Administration

[Docket No. 2007N-0105]

Agency Information Collection Activities; Submission for Office of Management and Budget Review; Comment Request; Mental Models Study of Food Terrorism Risk Awareness

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by August 23, 2007.

ADDRESSES: To ensure that comments on the information collection are received, OMB recommends that written comments be faxed to the Office of Information and Regulatory Affairs, OMB, Attn: FDA Desk Officer, FAX: 202-395-6974, or e-mailed to baguilar@omb.eop.gov. All comments should be identified with the OMB control number “0910-NEW” and title “Mental Models Study of Food Terrorism Risk Awareness.” Also include the FDA docket number found in brackets in the heading of this document.

FOR FURTHER INFORMATION CONTACT: Jonna Capezzuto, Office of the Chief Information Officer (HFA-250), Food and Drug Administration, 5600 Fishers Lane, Rockville, MD 20857, 301-827-4659.

SUPPLEMENTARY INFORMATION: In compliance with 44 U.S.C. 3507, FDA has submitted the following proposed collection of information to OMB for review and clearance.

Mental Models Study of Food Terrorism Risk Awareness (OMB Control Number 0910-NEW)

The proposed information collection will help FDA protect the public from food terrorism by preparing the agency to take appropriate action in the event of a crisis. Under the Federal Food, Drug, and Cosmetic Act of 1938, as amended, FDA has authority to act to protect the safety of the nation's food supply. Under title 42 of the Public Health Service Act (1944), FDA has authority to act to protect the public health. In addition, title III of the Public Health Security and Bioterrorism Preparedness and Response Act of 2002 (Public Law 107-188), FDA has authority to act to improve the ability of the United States to prevent, prepare for, and respond to terrorism and other public health emergencies.

FDA has crafted and disseminated messages intended to raise the awareness of state and local government agency and industry representatives regarding food defense issues and preparedness; but, FDA does not currently have similar initiatives for consumers. Extensive research exists in disaster preparedness and in effective communication to the public of risk or crisis information by government or non-government entities. However, additional research is needed to help FDA design communications that will increase consumer awareness of the potential for food terrorism and help consumers to make good decisions in the event of a food terrorism emergency.

The project will use “mental modeling,” a qualitative research method wherein the decisionmaking processes of a group of consumer respondents (described in the next paragraph) concerning food terrorism are modeled and compared to a model based on expert knowledge and experience in food terrorism. The information will be collected via a telephone interview concerning the factors that influence the perceptions and motivations related to the threat of food terrorism. A comparison between expert and consumer models based on the collected information may identify “consequential knowledge gaps” that can be redressed through messages or information campaigns designed by FDA.

Description of Respondents: Respondents will be adult parents over the age of 18 who have at least one child age 4 to 13 residing in the home at least half-time. The sample will be divided by gender.

In the Federal Register of March 30, 2007 (72 FR 15140), FDA published a 60-day notice requesting public comment on the information collection provisions. No comments were received.

Table 1.—Estimated Annual Reporting Burden¹
No. of Respondents | Annual Frequency per Response | Total Annual Responses | Hours per Response | Total Hours
45 | 1 | 1 | .75 | 33.75
¹There are no capital costs or operating and maintenance costs associated with this collection of information.

Dated: July 17, 2007.
Jeffrey Shuren,
Assistant Commissioner for Policy.

[FR Doc. E7-14200 Filed 7-23-07; 8:45 am]

BILLING CODE 4160-01-S